DEPARTMENT OF TRANSPORTATION

National Highway Traffic Safety Administration

[Docket No. NHTSA 2006-24322; Notice 2]

Yokohama Tire Corporation, Grant of Petition for Decision of Inconsequential Noncompliance

Yokohama Tire Corporation (Yokohama) has determined that certain tires that it produced in 2005 and 2006 do not comply with S4.3.2 of 49 CFR 571.109, Federal Motor Vehicle Safety Standard (FMVSS) No. 109, “New pneumatic tires.” Pursuant to 49 U.S.C. 30118(d) and 30120(h), Yokohama has petitioned for a determination that this noncompliance is inconsequential to motor vehicle safety and has filed an appropriate report pursuant to 49 CFR part 573, “Defect and Noncompliance Reports.” Notice of receipt of a petition was published, with a 30-day comment period, on April 7, 2006, in the Federal Register (71 FR 17954). NHTSA received no comments.

Affected are a total of approximately 1,918 Yokohama brand T155/70D17 110M Y870B temporary-use-only tires produced from August 2005 to February 2006. S4.3.2 of FMVSS No. 109 refers to 49 CFR 574.5, which requires ¾ inch maximum width spacing between the manufacturer's identification mark/tire size code grouping and the subsequent tire type code and date of manufacture. The subject tires have a spacing that exceeds ¾ inch. Yokohama has corrected the problem that caused these errors so that they will not be repeated in future production.

Yokohama believes that the noncompliance is inconsequential to motor vehicle safety and that no corrective action is warranted. Yokohama states that the noncompliant spacing “does not impair the purpose or the use of the identification number and does not pose a threat to motor vehicle safety.” Yokohama says that all other aspects of the tire identification number comply with the standard.

NHTSA agrees with Yokohama that the noncompliance is inconsequential to motor vehicle safety. Although the spacing is incorrect, all the correct information required by FMVSS No. 109 is provided and therefore is likely to achieve the safety purposes of the requirement. All other informational markings are present, and the tires meet or exceed all of the performance requirements of FMVSS No. 109.

In consideration of the foregoing, NHTSA has decided that the petitioner has met its burden of persuasion that the noncompliance described is inconsequential to motor vehicle safety. Accordingly, Yokohama's petition is granted and the petitioner is exempted from the obligation of providing notification of, and a remedy for, the noncompliance.

Authority: (49 U.S.C. 30118, 30120; delegations of authority at CFR 1.50 and 501.8)

Issued on: June 2, 2006.
Daniel C. Smith,
Associate Administrator for Enforcement.

[FR Doc. E6-8878 Filed 6-7-06; 8:45 am]

BILLING CODE 4910-59-P